DEPARTMENT OF JUSTICE

Drug Enforcement Administration

[OMB Number 1117-0043]

Agency Information Collection Activities; Proposed eCollection eComments Requested; Reinstatement of a Previously Approved Collection: Drug Questionnaire (DEA-341)

AGENCY: Drug Enforcement Administration, Department of Justice.

ACTION: 60-Day notice.

SUMMARY: The Drug Enforcement Administration, Department of Justice (DOJ), will be submitting the following information collection request to the Office of Management and Budget (OMB) for review and approval in accordance with the Paperwork Reduction Act of 1995.

DATES: Comments are encouraged and will be accepted for 60 days until November 9, 2020.

FOR FURTHER INFORMATION CONTACT: If you have additional comments especially on the estimated public burden or associated response time, suggestions, or need a copy of the proposed information collection instrument with instructions or additional information, please contact Sharyn J. Saunders, Assistant Administrator, 202-307-6287, Human Resources Division, Drug Enforcement Administration, 8701 Morrissette Drive, Springfield, VA 22152.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a previously approved collection.

2. The Title of the Form/Collection: Drug Use Statement.

3. The agency form number, if any, and the applicable component of the Department sponsoring the collection: The form number is the DEA-341. The sponsoring component is the Drug Enforcement Administration.

4. Affected public who will be asked or required to respond, as well as a brief abstract: The affected public is Drug Enforcement Administration applicants. DEA is requesting an extension of a previously approved collection. This collection requires the drug history of any individual seeking employment with DEA. DEA policy states that a past history of illegal drug use may result in ineligibility for employment. The form asks job applicants specific questions about their personal history, if any, of illegal drug use.

5. An estimate of the total number of respondents and the amount of time estimated for an average respondent to respond: It is estimated that 15,000 respondents will complete the application in approximately 5 minutes.

6. An estimate of the total public burden (in hours) associated with the collection: The estimated public burden associated with this collection is 1,250 hours. It is estimated that applicants will take 5 minutes to complete the questionnaire. (15,000 respondents × 5 minutes = 75,000 hours. 75,000/60 seconds = 1,250 hrs.).

If additional information is required contact: Melody Braswell, Department Clearance Officer, United States Department of Justice, Justice Management Division, Policy and Planning Staff, Two Constitution Square, 145 N Street NE, 3E.405B, Washington, DC 20530.

Dated: September 3, 2020.
Melody Braswell,
Department Clearance Officer for PRA, U.S. Department of Justice.

[FR Doc. 2020-19924 Filed 9-8-20; 8:45 am]

BILLING CODE 4410-14-P